NATIONAL SCIENCE FOUNDATION

Notice of Intent To Seek Approval To Establish an Information Collection

AGENCY: National Science Foundation.

ACTION: Notice and request for comments.

SUMMARY: Under the Paperwork Reduction Act of 1995, and as part of its continuing effort to reduce paperwork and respondent burden, the National Science Foundation (NSF) is inviting the general public or other Federal agencies to comment on this proposed continuing information collection.

DATES: Written comments on this notice must be received by January 31, 2025 to be assured consideration. Comments received after that date will be considered to the extent practicable. Send comments to address below.

FOR FURTHER INFORMATION CONTACT: Suzanne H. Plimpton, Reports Clearance Officer, National Science Foundation, 2415 Eisenhower Avenue, Suite E6300, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Comments: Comments are invited on: (a) whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

Title of Collection: 2026 U.S. NSF Integrated Data and Evidence Maturity and Capacity (IDEMC) Assessment.

OMB Number: 3145-NEW.

Expiration Date of Approval: Not applicable.

Type of Request: Intent to seek approval to establish an information collection.

Abstract: The “2026 NSF Integrated Data and Evidence Maturity and Capacity (IDEMC) Assessment” encompasses planning, execution, and reporting to evaluate NSF's data and evidence capabilities. Conducted periodically, this assessment supports compliance with the Foundations for Evidence-Based Policymaking Act (Evidence Act) and promotes continuous improvement in evidence-based decision-making. Building on the 2022 baseline assessment, the 2026 IDEMC Assessment will refine the evaluation framework to align with updated Office of Management and Budget (OMB) guidance.

The project will assess strengths, gaps, and opportunities across NSF's evidence and data capabilities by:

1. Conducting a review of agency artifacts;

2. Administering a survey to all NSF staff;

3. Organizing focus groups and individual interviews; and

4. Deploying interactive, real-time dashboards for decision-making.

The findings will be summarized in detailed reports and data briefs, offering actionable insights to enhance evidence capacity, maturity of foundational capabilities, and a culture of continuous learning and innovation. Additionally, the project will deliver a repeatable methodology, tools, and templates to support NSF in independently conducting the IDEMC Assessment in future years, if desired.

Expected Respondents: A census survey will be distributed to all 1,600 NSF staff, with a response burden of 30 minutes per respondent. Focus groups and interviews will be conducted with representative subsets of the population. Based on NSF's workforce size, approximately 10 focus groups (each with 6-8 participants, totaling ~70 participants) and 30 interviews will be conducted to ensure a range of perspectives and sufficient qualitative data.

Estimate of Burden: The overall annualized cost to the respondents is estimated to be $46,750. The following table shows the estimated burden and costs to respondents:

Collection title | Total number of respondents | Burden hours per respondent | Total hour burden | Average hourly rate | Estimated annual cost
Census Survey | 1,600 | 0.5 | 800 | $50 | $40,000
Focus Groups | 70 | 1.5 | 105 | 50 | 5,250
Interviews | 30 | 1 | 30 | 50 | 1,500
Total | 1,700 |  | 935 |  | 46,750

Justification for $50/hour Average Rate: The estimated average hourly rate of $50 reflects data from the Bureau of Labor Statistics (BLS) and Office of Personnel Management (OPM). Comparable Federal roles, such as “Management Analysts,” have an average hourly rate of approximately $50 (BLS, May 2022 National Occupational Employment and Wage Estimates). Additionally, General Schedule (GS) rates for GS-12 and GS-13 employees, typical of NSF staff roles, average around $50/hour when factoring in locality adjustments for the Washington, DC area.

Use of the Information: Aggregate findings will inform NSF's strategic planning, management, and evaluation efforts. Reports summarizing the results will support compliance with Evidence Act requirements and enhance NSF's capacity for evidence-based decision-making.

Dated: November 25, 2024.
Suzanne H. Plimpton,
Reports Clearance Officer, National Science Foundation.

[FR Doc. 2024-28137 Filed 11-29-24; 8:45 am]

BILLING CODE 7555-01-P